INTERNATIONAL TRADE COMMISSION

[Investigation Nos. 701-TA-639 and 641-642 and 731-TA-1475-1479, 1481-1483, and 1485-1492 (Final)]

Common Alloy Aluminum Sheet From Bahrain, Brazil, Croatia, Egypt, Germany, India, Indonesia, Italy, Oman, Romania, Serbia, Slovenia, South Africa, Spain, Taiwan, and Turkey

Determinations

On the basis of the record ¹ developed in the subject investigations, the United States International Trade Commission (“Commission”) determines, pursuant to the Tariff Act of 1930 (“the Act”), that an industry in the United States is materially injured by reason of imports of common alloy aluminum sheet from Bahrain, Brazil, Croatia, Egypt, Germany, India, Indonesia, Italy, Oman, Romania, Serbia, Slovenia, South Africa, Spain, Taiwan, and Turkey, provided for in subheadings 7606.11.30, 7606.11.60, 7606.12.30, 7606.12.60, 7606.91.30, 7606.91.60, 7606.92.30, and 7606.92.60 of the Harmonized Tariff Schedule of the United States, that have been found by the U.S. Department of Commerce (“Commerce”) to be sold in the United States at less than fair value (“LTFV”), and to be subsidized by the governments of Bahrain, India, and Turkey.2 3

¹ The record is defined in § 207.2(f) of the Commission's Rules of Practice and Procedure (19 CFR 207.2(f)).

² The Commission also finds that imports subject to Commerce's affirmative critical circumstances determination are not likely to undermine seriously the remedial effect of the countervailing duty order on common alloy aluminum sheet from Turkey or the antidumping duty order on common alloy aluminum sheet from Indonesia.

³ The Commission terminated its countervailing duty investigation on common alloy aluminum sheet from Brazil and its antidumping duty investigations on common alloy aluminum sheet from Greece and Korea (86 FR 14338, March 15, 2021) following negative final determinations by Commerce.

Background

The Commission instituted these investigations effective March 9, 2020, following receipt of petitions filed with the Commission and Commerce by the Aluminum Association Common Alloy Aluminum Sheet Working Group and its Individual Members, Aleris Rolled Products, Inc., Beachwood, Ohio; Arconic, Inc., Bettendorf, Iowa; Constellium Rolled Products Ravenswood, LLC, Ravenswood, West Virginia; JW Aluminum Company, Daniel Island, South Carolina; Novelis Corporation, Atlanta, Georgia; and Texarkana Aluminum, Inc., Texarkana, Texas. The final phase of the investigations was scheduled by the Commission following notification of a preliminary determinations by Commerce that imports of common alloy aluminum sheet from Bahrain, Brazil, India and Turkey were subsidized within the meaning of section 703(b) of the Act (19 U.S.C. 1671b(b)) and imports of common alloy aluminum sheet from Bahrain, Brazil, Croatia, Egypt, Germany, Greece, India, Indonesia, Italy, Korea, Oman, Romania, Serbia, Slovenia, South Africa, Spain, Taiwan, and Turkey were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 18, 2020 (85 FR 73511). In light of the restrictions on access to the Commission building due to the COVID-19 pandemic, the Commission conducted its hearing through written testimony and video conference on March 2, 2021. All persons who requested the opportunity were permitted to participate.

The Commission made these determinations pursuant to §§ 705(b) and 735(b) of the Act (19 U.S.C. 1671d(b) and 19 U.S.C. 1673d(b)). It completed and filed its determinations in these investigations on April 20, 2021. The views of the Commission are contained in USITC Publication 5182 (April 2021), entitled Common Alloy Aluminum Sheet from Bahrain, Brazil, Croatia, Egypt, Germany, India, Indonesia, Italy, Oman, Romania, Serbia, Slovenia, South Africa, Spain, Taiwan, and Turkey: Investigation Nos. 701-TA-639 and 641-642 and 731-TA-1475-1479, 1481-1483 and 1485-1492 (Final).

By order of the Commission.
Dated: April 20, 2021.
Lisa Barton,
Secretary to the Commission.

[FR Doc. 2021-08572 Filed 4-23-21; 8:45 am]

BILLING CODE 7020-02-P